DEPARTMENT OF COMMERCE

International Trade Administration

[A-475-703]

Granular Polytetrafluoroethylene (PTFE) Resin From Italy: Extension of Time Limit for Preliminary Results of Antidumping Duty Administrative Review

AGENCY: Import Administration, International Trade Administration, Department of Commerce.

EFFECTIVE DATE: April 12, 2001.

FOR FURTHER INFORMATION CONTACT: Salim Bhabhrawala or Gabriel Adler, Office of AD/CVD Enforcement 5, Import Administration, International Trade Administration, U.S. Department of Commerce, 14th and Constitution Avenue, NW., Washington, DC 20230; telephone: (202) 482-1784 or (202) 482-3813, respectively.

Time Limits

Statutory Time Limits

Section 751(a)(3)(A) of the Tariff Act of 1930, as amended (the Act), requires the Department to issue the preliminary results of an administrative review within 245 days after the last day of the anniversary month of an order for which a review is requested and the final results within 120 days after the date on which the preliminary results are published. However, if it is not practicable to complete the review within the time period, section 751(a)(3)(A) of the Act allows the Department to extend the time limit for the preliminary results to a maximum of 365 days and for the final results to 180 days (or 300 days if the Department does not extend the time limit for the preliminary results) from the date of publication of the preliminary results.

Background

On September 26, 2000, the Department published a notice of initiation of administrative review of the antidumping order on PTFE resin from Italy, covering the period August 1, 1999, through July 31, 2000 (65 FR 58733). The preliminary results are currently due no later than May 3, 2001.

Extension of Preliminary Results of Review

We determine that it is not practicable to complete the preliminary results of this review within the original time limit. Therefore, we are extending the time limit for completion of the preliminary results until no later than August 31, 2001. See Decision Memorandum from Gary Taverman to Holly Kuga, dated April 4, 2001, which is on file in the Central Records Unit, Room B-099 of the main Commerce building. We intend to issue the final results no later than 120 days after the publication of the notice of preliminary results.

This extension is in accordance with section 751(a)(3)(A) of the Act.

Dated: April 4, 2001.
Holly Kuga,
Acting Deputy Assistant Secretary, Import Administration, Group II.

[FR Doc. 01-9099 Filed 4-11-01; 8:45 am]

BILLING CODE 3510-DS-P